DEPARTMENT OF TRANSPORTATION

Federal Highway Administration

[Docket No. FHWA-2024-0068]

Agency Information Collection Activities: Request for Comments for a New Information Collection

AGENCY: Federal Highway Administration (FHWA), DOT.

ACTION: Notice and request for comments.

SUMMARY: The FHWA has forwarded the information collection request described in this notice to the Office of Management and Budget (OMB) to approve a new information collection. We are required to publish this notice in the Federal Register by the Paperwork Reduction Act of 1995.

DATES: Please submit comments by November 12, 2024.

ADDRESSES: You may submit comments identified by DOT Docket ID Number 0068 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Kenneth Petty, Office of Planning (HEPP-1), 202-366-6654, and Brian Gardner, Office of Planning (HEPP-30), 202-366-6221, Department of Transportation, Federal Highway Administration, 1200 New Jersey Avenue SE, Washington, DC 20590. Office hours are from 8 a.m. to 5 p.m., Monday through Friday, except Federal Holidays.

SUPPLEMENTARY INFORMATION: We published a Federal Register Notice with a 60-day public comment period on this information collection on October 30, 2023 at 88 FR 74227. There were no comments received.

Title: Application to Participate in the Transportation Access Pilot Program.

Background: The Infrastructure Investment and Jobs Act of 2021 requires FHWA to establish the Transportation Access Pilot Program (Pub. L. 117-58 sec. 13010). The program's intent is to improve transportation planning by measuring the level of access by surface transportation modes to important destinations, disaggregating the level of access by surface transportation mode by a variety of categories (e.g., population or freight commodities), and assessing the change in accessibility that would result from transportation investments.

Beginning in 2025, FHWA plans to use an application form and follow-up phone conversations to gather information from interested participants. Information collected in the application form will be used to evaluate applications to participate in the Transportation Access Pilot Program. The application will request information necessary to evaluate applications and select pilot program participants. The application will request that applicants provide information about: (1) previous experience of the eligible entity measuring transportation access or other performance management experience, if applicable; (2) the types of important destinations to which the eligible entity intends to measure access; (3) the types of data disaggregation the eligible entity intends to pursue; (4) a general description of the methodology the eligible entity intends to apply; (5) if the applicant does not intend the pilot program to apply to the full area under the jurisdiction of the applicant, a description of the geographic area in which the applicant intends the pilot program to apply; and (6) additional information required to evaluate and make selections for participation in the Transportation Access Pilot Program.

FHWA plans to require applications be submitted in electronic format (Adobe PDF or similar format). FHWA estimates that the application will take approximately one hour to complete. The application will consist of both multiple-choice and short-answer question formats. FHWA may request a follow-up phone conversation to address questions in an agency's submitted application form. These phone conversations will be approximately 30 minutes in length. This is planned as an annual information collection, until such time as the program is no longer accepting applications.

FHWA increased its estimated burden to the public between the 60-day Federal Register Notice announcing its intent to seek approval from OMB to collect this information, and this application. FHWA doubled its estimated burden on the public from 90 minutes per application to 180 minutes (3 hours) per application. The reason for this adjustment is that during this time, FHWA developed the application form and found that to gather all information needed to evaluate applications, a longer set of application questions was required, and that more time would likely be needed to discuss applications in follow-up interviews. This increased burden estimate is reflected in the Supporting Statement and this notice.

Respondents: FHWA estimates the maximum response to be up to 50 percent of the total universe of potential pilot program participants, which includes 52 State DOTs equivalents, and approximately 420 MPOs and 10 RTPOs. Thus, the estimated maximum response expected per application round is up to 241 individuals.

Frequency: Annually.

Estimated Average Burden per Response: Approximately 180 minutes per respondent.

Estimated Total Annual Burden Hours: Total estimated average annual burden is 723 hours, and 2,169 hours over 3 years.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: October 8, 2024.
Jazmyne Lewis,
Information Collection Officer.

[FR Doc. 2024-23609 Filed 10-10-24; 8:45 am]

BILLING CODE 4910-22-P